NATIONAL SCIENCE FOUNDATION

Advisory Committee for Social, Behavioral, and Economic Sciences; Notice of Meeting

In accordance with Federal Advisory Committee Act (Pub. L. 92-463, as amended), the National Science Foundation announces the following meeting:

Name: Advisory Committee for Social, Behavioral, and Economic Sciences (#1171).

Date/Time: May 20, 2010; 8:30 a.m. to 5:30 p.m. May 21, 2010; 8:30 a.m. to 3 p.m.

Place: National Science Foundation, 4201 Wilson Boulevard, Stafford I, Room 1235, Arlington, VA 22230.

Type of Meeting: Open.

Contact Person: Ms. Lisa Jones, Office of the Assistant Director, Directorate for Social, Behavioral, and Economic Sciences, National Science Foundation, 4201 Wilson Boulevard, Room 905, Arlington, Virginia 22230, 703-292-8700.

Summary of Minutes: May be obtained from contact person listed above.

Purpose of Meeting: To provide advice and recommendations to the National Science Foundation on major goals and policies pertaining to Social, Behavioral and Economic Sciences Directorate programs and activities.

Agenda:

Thursday, May 20, 2010

Updates and discussions on continuing activities.

• Budget priorities for FY 2011.

• SBE Future Directions.

AC Report Planning for SBE Future.

Discussion with NSF Director and Deputy Director.

Friday, May 21, 2010

Updates and discussion on continuing activities.

• SLC.

• International Engagement.

Open Discussion.

Planning for FY 2011 and Beyond.

Dated: May 4, 2010.
Susanne Bolton,
Committee Management Officer.

[FR Doc. 2010-10932 Filed 5-7-10; 8:45 am]

BILLING CODE 7555-01-P